BROADCASTING BOARD OF GOVERNORS

Sunshine Act; Notice of Meeting

DATE AND TIME: Wednesday, November 30, 2005, 2 p.m.-3 p.m.

PLACE: Cohen Building, Room 3360, 330 Independence Avenue, SW., Washington, DC 20237.

Closed Meeting: The members of the Broadcasting Board of Governors (BBG) will meet in a special session to review and discuss budgetary issues relating to U.S. Government-funded non-military international broadcasting. This meeting is closed because if open it likely would either disclose matters that would be properly classified to be kept secret in the interest of foreign policy under the appropriate executive order (5 U.S.C. 552b.(c)(1)) or would disclose information the premature disclosure of which would be likely to significantly frustrate implementation of a proposed agency action. (5 U.S.C. 552b.(c)(9)(B)). In addition, part of the discussion will relate solely to the internal personnel and organizational issues of the BBG or the International Broadcasting Bureau. (5 U.S.C. 552b.(c)(2) and (6)).

FOR FURTHER INFORMATION CONTACT: Persons interested in obtaining more information should contact Carol Booker at (202) 203-4545.

Dated: November 30, 2005.
Carol Booker,
Legal Counsel.

[FR Doc. 05-23685 Filed 12-1-05; 3:26 pm]

BILLING CODE 8230-01-M